DEPARTMENT OF LABOR

Employment and Training Administration

Announcement Regarding States Triggering “Off” in the Emergency Unemployment Compensation 2008 (EUC08) Program and the Federal-State Extended Benefits (EB) Program

AGENCY: Employment and Training Administration, Labor.

ACTION: Notice.

SUMMARY: Announcement regarding states triggering “off” in the Emergency Unemployment Compensation 2008 (EUC08) program and the Federal State Extended Benefits (EB) Program.

The Department of Labor produces trigger notices indicating which states qualify for both EB and EUC08 benefits, and provides the beginning and ending dates of payable periods for each qualifying state. The trigger notices covering state eligibility for these programs can be found at: http://ows.doleta.gov/unemploy/claims_arch.asp.

The following changes have occurred since the publication of the last notice regarding states' EB and EUC08 trigger status:

• Based on data released by the Bureau of Labor Statistics on January 24, 2012 the three month average, seasonally-adjusted total unemployment rate (TUR trigger) for Texas fell below the 8.5% threshold to remain “on” Tier Four of the EUC08 program. The 13-week mandatory “on” period for Texas in Tier Four of the EUC08 program concluded on March 10, 2012. As a result, the week ending March 10, 2012 was the last week in which EUC claimants in Texas could exhaust Tier 3, and establish Tier 4 eligibility. With this change, the maximum potential entitlement in Texas for the EUC08 program decreased from 53 weeks to 47 weeks. Under the phase-out provisions, claimants can receive any remaining entitlement they have in Tier 4 after March 10, 2012.

• Based on data released by the Bureau of Labor Statistics on March 13, 2012, the TUR triggers for Minnesota and Utah fell below the 6% threshold to remain “on” in Tier 3 of the EUC08 program. As a result, the current maximum potential entitlement in both of these states in the EUC08 program will decrease from 47 weeks to 34 weeks. The week ending April 7, 2012 will be the last week in which EUC08 claimants in these states can exhaust Tier 2, and establish Tier 3 eligibility. Under the phase-out provisions, claimants in these states can receive any remaining entitlement they have in Tier 3 after April 7, 2012.

• Based on data released by the Bureau of Labor Statistics on March 13, 2012, the TUR triggers for Alabama, Idaho, and Ohio fell below the 8.5% threshold to remain “on” in Tier 4 of the EUC08 program. As a result, the current maximum potential entitlement in these states for the EUC08 program will decrease from 53 weeks to 47 weeks. The week ending April 7, 2012 will be the last week in which EUC claimants in these states can exhaust Tier 3, and establish Tier 4 eligibility. Under the phase-out provisions, claimants in these states can receive any remaining entitlement they have in Tier 4 after April 7, 2012.

• Based on data released by the Bureau of Labor Statistics on March 13, 2012, the TUR trigger for Kansas fell to 6.3%, below the 6.5% threshold to remain “on”, and triggering them “off” of the EB program with the week ending March 17, 2012. The payable period for Kansas in the EB program will conclude with the week ending April 7, 2012.

• Based on data released by the Bureau of Labor Statistics on March 13, 2012, the TUR triggers in Colorado, Texas, and West Virginia fell below the 8.0% threshold required to remain “on” in a high unemployment period (HUP) for EB. Claimants in these states will remain eligible for up to 20 weeks of benefits through April 7, 2012, but starting April 8, 2012, the maximum potential entitlement in the EB program for these states will decrease from 20 weeks to 13 weeks.

• Based on data released by the Bureau of Labor Statistics on March 13, 2012, as well as revisions to prior year data released on February 29, 2012, Kentucky, Massachusetts, Missouri, Ohio, Oregon, South Carolina, Tennessee, and Wisconsin no longer meet one of the criteria to remain “on” in EB, having their current TUR triggers be at least 110% of one of the trigger rates from a comparable prior period in one of the three prior years. This triggers these states “off” of the EB program with the week ending March 17, 2012. The payable period in these states for the EB program will conclude with the week ending April 7, 2012.

Information for Claimants

The duration of benefits payable in the EUC program, and the terms and conditions under which they are payable, are governed by public laws 110-252, 110-449, 111-5, 111-92, 111-118, 111-144, 111-157, 111-205, 111-312, 112-96, and the operating instructions issued to the states by the U.S. Department of Labor. The duration of benefits payable in the EB program, and the terms and conditions on which they are payable, are governed by the Federal-State Extended Unemployment Compensation Act of 1970, as amended, and the operating instructions issued to the states by the U.S. Department of Labor.

In the case of a state concluding an EB period, the State Workforce Agency will furnish a written notice of any change in potential entitlement to each individual who had established eligibility for EB (20 CFR 615.13(c)(4)). Persons who believe they may be entitled to benefits under the EB or EUC08 program, or who wish to inquire about their rights under the program, should contact their State Workforce Agency.

FOR FURTHER INFORMATION CONTACT: Scott Gibbons, U.S. Department of Labor, Employment and Training Administration, Office of Unemployment Insurance, 200 Constitution Avenue NW., Frances Perkins Bldg. Room S-4524, Washington, DC 20210, telephone number (202) 693-3008 (this is not a toll-free number) or by email: gibbons.scott@dol.gov.

Signed in Washington, DC, this 30th day of March, 2012.
Jane Oates,
Assistant Secretary, Employment and Training Administration.

[FR Doc. 2012-8618 Filed 4-10-12; 8:45 am]

BILLING CODE 4510-FW-P